DEPARTMENT OF TRANSPORTATION

Office of the Secretary

Port Performance Freight Statistics Working Group

AGENCY: Bureau of Transportation Statistics (BTS), Office of the Assistant Secretary for Research and Technology (OST-R), U.S. Department of Transportation (USDOT).

ACTION: Port Performance Freight Statistics Working Group: Notice of public meetings.

SUMMARY: This notice announces two upcoming public meetings of the Port Performance Freight Statistics Working Group (hereafter, “Working Group”). The Working Group will provide advice and recommendations to the BTS Director pursuant to Section 6018 of the Fixing America's Surface Transportation (FAST) Act on matters related to port performance measures, including: Specifications and data measurements to be used in the Port Performance Freight Statistics Program established under subsection 6018(a); and a process for the Department to collect timely and consistent data, including identifying safeguards to protect proprietary information described in subsection 6018(b)(2). The Working Group will operate in accordance with the provisions of the Federal Advisory Committee Act (FACA) and the rules and regulations issued in implementation of that Act.

DATES: The meetings will be held on September 23, 2016, and October 21, 2016, from 9:00 a.m. to 4:30 p.m., Eastern Standard Time.

ADDRESSES: The meetings will be at the U.S. Department of Transportation, 1200 New Jersey Avenue SE., Washington, DC 20590. Any person requiring accessibility accommodations should contact Matthew Chambers at (202) 366-1270 or via email at: portstatistics@dot.gov.

FOR FURTHER INFORMATION CONTACT: U.S. Department of Transportation, Office of the Assistant Secretary for Research and Technology, Bureau of Transportation Statistics, Attn: Port Performance Freight Statistics Working Group, 1200 New Jersey Avenue SE., Room # E32-342, Washington, DC 20590.

SUPPLEMENTARY INFORMATION:

Background: The Port Performance Freight Statistics Working Group has been created in accordance with Section 6018 of the FAST Act (Pub. L. 114-94; Dec. 4, 2015; 129 Stat. 1312). The Working Group supports the BTS Port Performance Freight Statistics Program, which has the goal “to provide nationally consistent measures of performance” of the nation's largest ports, and to report annually to Congress on port capacity and throughput.

The Working Group is established in the FAST Act to provide recommendations to the BTS Director on matters related to port performance measures; to identify a standard for port data; to specify standards for consistent port performance measures; to recommend statistics for measuring port capacity and throughput; and to develop a process to collect timely and consistent data. The FAST Act also identifies the membership of the Working Group, and sets a due date for recommendations to the BTS Director of December 4, 2016.

Agenda: During the meetings, U.S. Department of Transportation (hereafter, “Department”) staff will provide updates of the Department's progress in implementing its Port Performance Freight Statistics Program and related provisions. The Working Group will discuss its development of a list of tasks and subtasks that:

(a) Identify a generally accepted industry standard for port data collection and reporting.

(b) Specify standards for collecting data and reporting nationally consistent port performance measures.

(c) Make recommendations for statistics measuring on U.S. port capacity and throughput.

(d) Develop a process for the Department to collect timely and consistent data, including identifying safeguards to protect proprietary information.

The final meeting agendas will be posted on the BTS Web site at www.bts.gov/port_performance in advance of the meetings.

Public Participation: The meetings will be open to the public on a first-come, first-serve basis, especially because space is limited. Members of the public who wish to attend the meetings in-person are asked to send RSVPs, including name, affiliation, and contact information to portstatistics@dot.gov, in order to request a seat and to facilitate entry. RSVPs are requested by September 19, 2016, for the September 23, 2016, meeting; and by October 17, 2016, for the October 21, 2016, meeting. Any person requiring accessibility accommodation, such as sign language interpretation, should contact Matthew Chambers at (202) 366-1270 or via email at: portstatistics@dot.gov five (5) business days before the meeting.

Written Comments: Persons who wish to submit written comments for consideration by the Working Group must send them via email to portstatistics@dot.gov or mail to Matthew Chambers, Designated Federal Officer, Port Performance Freight Statistics Working Group, 1200 New Jersey Avenue SE., Room # E32-342, Washington, DC 20590. Please note that all written comments will be made available for public inspection. Written comments must be received on or before September 19, 2016, for the September 23, 2016, meeting; and on or before October 17, 2016, for the October 21, 2016, meeting.

Issued in Washington, DC, on August 16, 2016.
Rolf R. Schmitt,
Deputy Director, Bureau of Transportation Statistics.

[FR Doc. 2016-19947 Filed 8-19-16; 8:45 am]

BILLING CODE 4910-9X-P